DEPARTMENT OF ENERGY

Environmental Management Site-Specific Advisory Board Chairs

AGENCY: Office of Environmental Management, Department of Energy.

ACTION: Notice of open meeting.

SUMMARY: This notice announces an in-person/virtual hybrid meeting of the Environmental Management Site-Specific Advisory Board (EM SSAB). The Federal Advisory Committee Act requires that public notice of this meeting be announced in the Federal Register.

DATES: Wednesday, September 25, 2024; 8:30 a.m.-5 p.m. EDT; Thursday, September 26, 2024; 8:30 a.m.-11:45 a.m. EDT.

ADDRESSES: Double Tree Hotel, 215 S Illinois Avenue, Oak Ridge, TN 37830. This hybrid meeting will be in-person at the Double Tree Hotel and virtually available via Zoom. Virtual attendees can Register for the meeting on September 25, 2024, by visiting https://www.energy.gov/em/events/em-site-specific-advisory-board-chairs-meeting-day-1 and on September 26, 2024, by visiting https://www.energy.gov/em/events/em-site-specific-advisory-board-chairs-meeting-day-2.

FOR FURTHER INFORMATION CONTACT: Kelly Snyder, EM SSAB Designated Federal Officer. Telephone: (702) 918-6715; Email: kelly.snyder@em.doe.gov.

SUPPLEMENTARY INFORMATION:

Purpose of the Board: The purpose of the Board is to provide advice and recommendations concerning the following EM site-specific issues: clean-up activities and environmental restoration; waste and nuclear materials management and disposition; excess facilities; future land use and long-term stewardship. The Board may also be asked to provide advice and recommendations on any EM program components.

Tentative Agenda Topics

Wednesday, September 25, 2024

• Public Comment

• Presentations by DOE

• Board Business/Open Discussion

Thursday, September 26, 2024

• Public Comment

• Presentations by DOE

• Board Business/Open Discussion

Public Participation: DOE welcomes the attendance of the public at their advisory committee meetings and will make every effort to accommodate persons with physical disabilities or special needs. If you require special accommodations due to a disability, please contact Kelly Snyder at least seven days in advance of the meeting at the phone number or email listed above. Written public comment statements may be filed either before or after the meeting with the Designated Federal Officer, Kelly Snyder, at the phone number or email listed above. The Designated Federal Officer is empowered to conduct the meeting in a fashion that will facilitate the orderly conduct of business.

Minutes will be available at the following website: https://energy.gov/em/listings/chairs-meetings.

Signing Authority: This document of the Department of Energy was signed on August 23, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on August 23, 2024.
Treena V. Garrett,
Federal Register Liaison Officer, U.S. Department of Energy.

[FR Doc. 2024-19401 Filed 8-28-24; 8:45 am]

BILLING CODE 6450-01-P